DEPARTMENT OF TRANSPORTATION

Federal Aviation Administration

14 CFR Part 39

[Docket No. FAA-2009-0397; Directorate Identifier 2008-NM-023-AD; Amendment 39-16018; AD 2009-19-01]

RIN 2120-AA64

Airworthiness Directives; Airbus Model A300 B2-1C, B2-203, B2K-3C, B4-103, B4-203, and B4-2C Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

An operator has reported the loss of a centre flap inner tab on an in-service A300 aircraft. The centre flap inner tab detached during approach to an airport. A similar event was reported several years ago on a pre-mod 04770 aircraft. * * *

* * * Investigations led by the manufacturer revealed that the centre hinge bracket developed a fatigue crack causing complete failure of the bracket. The tab rotated causing failure of the inboard link followed by the failure of the outboard link.

[D]etachment of a centre flap inner tab * * * could be a potential risk to persons on [the] ground * * *.

* * * * *

We are issuing this AD to require actions to correct the unsafe condition on these products.

DATES: This AD becomes effective October 14, 2009.

The Director of the Federal Register approved the incorporation by reference of certain publications listed in this AD as of October 14, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on April 30, 2009 (74 FR 19908). That NPRM proposed to correct an unsafe condition for the specified products. The MCAI states:

An operator has reported the loss of a centre flap inner tab on an in-service A300 aircraft. The centre flap inner tab detached during approach to an airport. A similar event was reported several years ago on a pre-mod 04770 aircraft. Previous failure at the aft lug of the centre brackets led to the issuance of Airbus Service Bulletin A300-57-0205.

In the most recent case, the aircraft had been modified in accordance with Airbus Service Bulletin A300-57-0205 (Airbus modification No. 04770). Investigations led by the manufacturer revealed that the centre hinge bracket developed a fatigue crack causing complete failure of the bracket. The tab rotated causing failure of the inboard link followed by the failure of the outboard link.

To avoid a detachment of a centre flap inner tab, which could be a potential risk to persons on [the] ground, this AD requires a repetitive [high frequency eddy current] inspection of the centre flap inner tab hinge bracket and replacement of the bracket when cracks are detected * * * [and] reporting of inspection results to the TC holder [and provides] an optional terminating action. * * *

* * * * *

You may obtain further information by examining the MCAI in the AD docket.

Comments

We gave the public the opportunity to participate in developing this AD. We considered the comment received.

Request for Clarification of Reporting Requirement

TradeWinds Airlines points out that although paragraph (e), “Reason,” of the NPRM describes reporting inspection results to the Type Certificate holder, the requirements in paragraphs (f)(1), (f)(2), and (f)(3) of the NPRM currently have no information that describes the reporting requirement.

We infer that TradeWinds Airlines is asking us to clarify the reporting requirement, and we agree that clarification is necessary. Paragraph (e) of the NPRM quotes European Aviation Safety Agency (EASA) AD 2007-0299R2, dated October 28, 2008. The EASA AD includes reporting; however, this AD does not require reporting. We have updated Note 1 of this final rule to clarify this difference. We also removed paragraph (g)(3) of the proposed AD because that paragraph provides reporting requirement information and it is unnecessary to include that information in this final rule.

Conclusion

We reviewed the available data, including the comment received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a note within the AD.

Costs of Compliance

We estimate that this AD will affect 22 products of U.S. registry. We also estimate that it will take about 55 work-hours per product to comply with the basic requirements of this AD. The average labor rate is $80 per work-hour. Based on these figures, we estimate the cost of this AD to the U.S. operators to be $96,800, or $4,400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-19-01 Airbus: Amendment 39-16018. Docket No. FAA-2009-0397; Directorate Identifier 2008-NM-023-AD.

Effective Date

(a) This airworthiness directive (AD) becomes effective October 14, 2009.

Affected ADs

(b) None.

Applicability

(c) This AD applies to Airbus Model A300 B2-1C, B2-203, B2K-3C, B4-103, B4-203, and B4-2C airplanes, certificated in any category, all serial numbers, except airplanes which have been modified in accordance with Airbus Mandatory Service Bulletin A300-57-0252 (Airbus Modification 13400).

Subject

(d) Air Transport Association (ATA) of America Code 57: Wings.

Reason

(e) The mandatory continuing airworthiness information (MCAI) states:

An operator has reported the loss of a centre flap inner tab on an in-service A300 aircraft. The centre flap inner tab detached during approach to an airport. A similar event was reported several years ago on a pre-mod 04770 aircraft. Previous failure at the aft lug of the centre brackets led to the issuance of Airbus Service Bulletin A300-57-0205.

In the most recent case, the aircraft had been modified in accordance with Airbus Service Bulletin A300-57-0205 (Airbus modification No. 04770). Investigations led by the manufacturer revealed that the centre hinge bracket developed a fatigue crack causing complete failure of the bracket. The tab rotated causing failure of the inboard link followed by the failure of the outboard link.

To avoid a detachment of a centre flap inner tab, which could be a potential risk to persons on [the] ground, this AD requires a repetitive [high frequency eddy current] inspection of the centre flap inner tab hinge bracket and replacement of the bracket when cracks are detected * * * [and] reporting of inspection results to the TC holder [and provides] an optional terminating action. * * *

* * * * *

Actions and Compliance

(f) Unless already done, do the following actions.

(1) At the times specified in Table 1 or Table 2 of this AD, as applicable, perform a high frequency eddy current inspection to detect fatigue cracks of the center hinge bracket of the center flap inner tab (on both wings), in accordance with Airbus Mandatory Service Bulletin A300-57-0250, Revision 01, dated September 29, 2008. If no cracking is found, repeat the inspection thereafter at intervals not to exceed 850 flight cycles.

Table 1—Airplanes on which Airbus Service Bulletin A300-57-0205 Has Not Been Done
Flight cycles accumulated since first flight as of the effective date of this AD | Compliance time
Less than 6,000 flight cycles | Prior to accumulating 6,000 flight cycles since first flight or within 90 days after the effective date of this AD, whichever occurs later.
6,000 flight cycles or more, but less than 12,000 flight cycles | Within 850 flight cycles after the effective date of this AD.
12,000 flight cycles or more | Within 500 flight cycles after the effective date of this AD.

Table 2—Airplanes on Which Airbus Service Bulletin A300-57-0205 Has Been Done
Flight cycles accumulated since Airbus Service Bulletin A300-57-0205 modification as of the effective date of this AD | Compliance time
Less than 6,000 flight cycles | Prior to accumulating 6,000 flight cycles since Airbus Service Bulletin A300-57-0205 modification or within 90 days after the effective date of this AD, whichever occurs later.
6,000 flight cycles or more, but less than 12,000 flight cycles | Within 850 flight cycles after the effective date of this AD.
12,000 flight cycles or more | Within 500 flight cycles after the effective date of this AD.

(2) If any crack is detected during any inspection required by this AD, before further flight, replace the center hinge bracket in the accordance with Airbus Mandatory Service Bulletin A300-57-0250, Revision 01, dated September 29, 2008. Within 6,000 flight cycles after replacing the center hinge bracket, do the inspection required by paragraph (f)(1) of this AD, and if no cracking is found, repeat the inspection thereafter at intervals not to exceed 850 flight cycles.

(3) Modifying the inboard tab of the center flaps in accordance with Airbus Mandatory Service Bulletin A300-57-0252, dated August 27, 2008, terminates the requirements of this AD.

(4) Actions accomplished before the effective date of this AD in accordance with Airbus Mandatory Service Bulletin A300-57-0250, dated November 2, 2007, are considered acceptable for compliance with the corresponding actions specified in this AD.

FAA AD Differences

Note 1: This AD differs from the MCAI and/or service information as follows: Although the European Aviation Safety Agency AD 2007-0299R2, dated October 28, 2008 and Airbus Mandatory Service Bulletin A300-57-0250, dated November 2, 2007, specify to submit certain information to the manufacturer, this AD does not include that requirement.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI Airworthiness Directive 2007-0299R2, dated October 28, 2008; Airbus Mandatory Service Bulletin A300-57-0250, Revision 01, dated September 29, 2008; and Airbus Mandatory Service Bulletin A300-57-0252, dated August 27, 2008; for related information.

Material Incorporated by Reference

(i) You must use Airbus Mandatory Service Bulletin A300-57-0250, Revision 01, excluding Appendix 1, dated September 29, 2008, to do the actions required by this AD, unless the AD specifies otherwise. If you do the optional terminating modification specified by this AD, you must use Airbus Service Bulletin A300-57-0252, dated August 27, 2008, to perform that action, unless the AD specifies otherwise.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on August 31, 2009.
Ali Bahrami,
Manager, Transport Airplane Directorate, Aircraft Certification Service.

[FR Doc. E9-21411 Filed 9-8-09; 8:45 am]

BILLING CODE 4910-13-P